DEPARTMENT OF THE INTERIOR

National Park Service

[NPS-WASO-NAGPRA-NPS0028866; PPWOCRADN0-PCU00RP14.R50000]

Notice of Inventory Completion: University of Michigan, Ann Arbor, MI

AGENCY: National Park Service, Interior.

ACTION: Notice.

SUMMARY: The University of Michigan (UMMAA) has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the University of Michigan. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the University of Michigan at the address in this notice by October 24, 2019.

ADDRESSES: Dr. Ben Secunda, NAGPRA Project Manager, University of Michigan, Office of the Vice President for Research, 4080 Fleming Building, 503 South Thompson Street, Ann Arbor, MI 48109-1340, telephone (734) 647-9085, email bsecunda@umich.edu.

SUPPLEMENTARY INFORMATION: Notice is here given in accordance with the Native American Graves Protection and Repatriation Act (NAGPRA), 25 U.S.C. 3003, of the completion of an inventory of human remains under the control of the University of Michigan, Ann Arbor, MI. The human remains were removed from the Lake Cormorant (22.0029/13-P-8) and Irby (22.0030/13-P-10) sites, DeSoto County, MS.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the University of Michigan professional staff in consultation with representatives of The Chickasaw Nation and The Quapaw Tribe of Indians (hereafter referred to as “The Tribes”).

History and Description of the Human Remains

In January of 1958, human remains representing, at minimum, one individual were removed from the Lake Cormorant site (22.0029/13-P-8) in DeSoto County, MS. The site is located near the junction of Lake Cormorant and an old meander of the Mississippi River. The property owner described the site as having two mounds, but only one 1-2 foot high mound was present in 1940. Plowing disturbed the site. The site was excavated multiple times by multiple parties. The human remains in the UMMAA's possession were donated by Gregory Perino of the Gilcrease Foundation on February 18, 1958. UMMAA records for these human remains are minimal. The burial is believed to date to the Middle Mississippian Period (A.D. 1200-1500) based on non-burial-related diagnostic artifacts collected from the site. The one individual is an adolescent/young adult 12-20 years old of indeterminate sex, with marked fronto-occipital cranial modification and mild porotic hyperostosis throughout the cranial vault (possibly from mineral deficiencies). No known individuals were identified. No associated funerary objects are present.

In January of 1958, human remains representing, at minimum, one individual were removed from the Irby site (22.0030/13-P-10) in DeSoto County, MS. The site is located on a natural levee of the Alpike Bayou near a junction with Johnson Creek. The site was described as a single mound of indeterminate shape. The north end of the mound has been plowed and was noted as having a heavy deposit of daub. Daub was also noted as being abundant on the bank west of the mound and scattered throughout an adjacent field. The site has been excavated multiple times by multiple parties. The human remains in the UMMAA's possession were donated by Gregory Perino of the Gilcrease Foundation on February 18, 1958. UMMAA records for these human remains are minimal. The burial is believed to date to within the Late Woodland (Baytown) and Middle Mississippian Periods (A.D. 400-1500) based on non-burial-related diagnostic artifacts collected from the site. The one individual is an adult 30-40 years old and possibly male, with marked fronto-occipital cranial modification, mild porotic hyperostosis throughout the cranial vault (possibly from mineral deficiencies), and a possible depression fracture above the left eye orbit. No known individuals were identified. No associated funerary objects are present.

Determinations Made by the University of Michigan

Officials of the University of Michigan have determined that:

• Pursuant to 25 U.S.C. 3001(9), the human remains described in this notice are Native American based on cranial morphology, accession documentation, and archeological context.

• Pursuant to 25 U.S.C. 3001(9), the human remains described in this notice represent the physical remains of two individuals of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of The Chickasaw Nation.

• Treaties, Acts of Congress, or Executive Orders, indicate that the land from which the Native American human remains were removed is the aboriginal land of The Tribes.

• Pursuant to 43 CFR 10.11(c)(1), the disposition of the human remains may be to The Tribes.

Additional Requestors and Disposition

Representatives of any Indian Tribe or Native Hawaiian organization not identified in this notice that wish to request transfer of control of these human remains should submit a written request with information in support of the request to Dr. Ben Secunda, NAGPRA Project Manager, University of Michigan, Office of the Vice President for Research, 4080 Fleming Building, 503 South Thompson Street, Ann Arbor, MI 48109-1340, telephone (734) 647-9085, email bsecunda@umich.edu, by October 24, 2019. After that date, if no additional requestors have come forward, transfer of control of the human remains to The Tribes may proceed.

The University of Michigan is responsible for notifying The Tribes that this notice has been published.

Dated: September 6, 2019.
Melanie O'Brien,
Manager, National NAGPRA Program.

[FR Doc. 2019-20617 Filed 9-23-19; 8:45 am]

BILLING CODE 4312-52-P